DEPARTMENT OF COMMERCE

Census Bureau

Proposed Information Collection; Comment Request; Survey of Income and Program Participation (SIPP) 2018 Panel

AGENCY: U.S. Census Bureau, Commerce.

ACTION: Notice.

SUMMARY: The Department of Commerce, as part of its continuing effort to reduce paperwork and respondent burden, invites the general public and other federal agencies to take this opportunity to comment on the proposed 2018 Survey of Income and Program Participation, as required by the Paperwork Reduction Act of 1995.

DATES: To ensure consideration, submit written comments on or before June 19, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Jason M. Fields, U.S. Census Bureau, ADDP, 4600 Silver Hill Road, Room HQ-7H153, Washington, DC 20233-0001, (301) 763-2465 (or via the Internet at jason.m.fields@census.gov).

SUPPLEMENTARY INFORMATION:

I. Abstract

The Census Bureau plans to conduct the Survey of Income and Program Participation (SIPP) 2018 Panel in 4 waves beginning in February 2018. Wave 1 of the SIPP 2018 Panel will be conducted from February to May of 2018. Wave 2 is scheduled to be conducted from February to May of 2019. Wave 3 is scheduled to be conducted from February to May of 2020. Wave 4 is scheduled to be conducted from February to May of 2021. The SIPP is a household-based survey designed as a continuous series of national panels. The SIPP represents a primary source of information about annual and sub-annual dynamics of income, family and household content, movement into and out of government programs, and interactions of these topics in a single, unified database allowing for in-depth, informed analyses. Government domestic policy formulators depend heavily upon SIPP information concerning the distribution of income received either directly as money or indirectly as in-kind benefits and the effect of tax and transfer programs on that distribution. They also rely on data that provides improved and expanded information on the dynamics of income and the general economic and financial situation of the U.S. population, in the context of the household situation, which the SIPP has provided on a continuing basis since 1983. The SIPP has measured levels of economic well-being and permitted measurement of changes in these levels over time.

A portion of the 2018 SIPP Panel will use an Event History Calendar (EHC) that facilitates the collection of dates of events and spells of coverage. The EHC is a tool to assist the respondent's ability to recall events accurately over the one year reference period and provide increased data quality and inter-topic consistency for dates reported by respondents. The EHC is intended to help respondents recall information in a more natural “autobiographical” manner by using life events as triggers to recall other economic events. The EHC was previously used in the 2014 Panel. The content of the 2018 SIPP Panel will match that of the 2014 SIPP Panel very closely. As with the 2014 Panel, the 2018 Panel SIPP design does not contain freestanding topical modules; however, a portion of traditional SIPP topical module content is integrated into the 2018 SIPP Panel interview. Examples of this content include questions on medical expenses, child care, retirement and pension plan coverage, marital history, and adult and child well-being.

The 2018 SIPP Panel begins with a new “Wave 1” sample of survey respondents who were not interviewed in the previous 2014 SIPP Panel. The 2018 SIPP Panel Wave 1 will interview respondents about the previous calendar year, 2017, as the reference period and will proceed with annual interviewing going forward. The 2018 SIPP Panel will use the same interviewing method structure as in the 2014 Panel, in which adults (age 15 years and older) who move from the prior wave household will be followed. Consequently, future waves will incorporate dependent data, which is information collected from the prior wave interview brought forward to the current interview as a way to reduce respondent burden and improve data quality.

The Census Bureau plans to continue to use Computer Audio-Recorded Interview (CARI) technology for all of the respondents during the 2018 SIPP Panel. CARI is a tool available during data collection to capture audio along with response data. With the respondent's consent, a portion of each interview is recorded unobtrusively and both the sound file and screen images are returned with the response data to Census Headquarters for evaluation. Census staff may review the recorded portions of the interview to improve questionnaire design and for quality assurance purposes.

Approximately 20,000 households are expected to be interviewed for the 2018 SIPP Panel. We estimate that each household contains 2.1 people age 15 and above, yielding approximately 42,000 person-level interviews per wave in this panel. Completing the SIPP interview will take approximately 60 minutes per adult on average, consequently the total annual burden for 2018 SIPP interviews will be 42,000 hours per year in FY 2018, 2019, 2020, and 2021.

II. Method of Collection

The 2018 SIPP Panel will use the Computer-Assisted Personal Interviewing (CAPI) method of data collection. The instrument will consist of one interview per person per wave (year) resulting in four total interviews over the life of the panel. Each interview will reference the previous calendar year depending on the wave. A field representative will conduct the interview in person with all household members 15 years old or over using regular proxy-respondent rules. In the instances where the residence is not accessible or the respondent makes a request, the field representative will conduct the interview by telephone.

III. Data

OMB Control Number: 0607-0977.

Form Number: SIPP/CAPI Automated Instrument.

Type of Review: Regular submission.

Affected Public: Individuals or Households.

Estimated Number of Respondents: 42,000 people per wave.

Estimated Time per Response: 60 minutes per person on average.

Estimated Total Annual Burden Hours: 42,000 hours per wave.

Estimated Total Annual Cost: $0.

Respondent's Obligation: Voluntary.

Legal Authority: Title 13, United States Code, Sections 141 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2017-07884 Filed 4-18-17; 8:45 am]

BILLING CODE 3511-07-P